DEPARTMENT OF ENERGY

Federal Energy Regulatory Commission

Notice of Commission Staff Attendance

The Federal Energy Regulatory Commission (Commission) hereby gives notice that members of the Commission's staff may attend the following meetings related to the transmission planning activities of the New York Independent System Operator, Inc. (NYISO):

NYISO Electric System Planning Working Group and Transmission Planning Advisory Subcommittee Meeting

December 1, 2017, 10:00 a.m.-11:45 a.m. (EST)

The above-referenced meeting will be via Web conference and teleconference.

The above-referenced meeting is open to stakeholders.

Further information may be found at: http://www.nyiso.com/public/committees/documents.jsp?com=oc_tpas&directory=2017-12-01.

NYISO Business Issues Committee Meeting

December 13, 2017, 10:00 a.m.-4:00 p.m. (EST)

The above-referenced meeting will be via Web conference and teleconference.

The above-referenced meeting is open to stakeholders.

Further information may be found at: http://www.nyiso.com/public/committees/documents.jsp?com=bic&directory=2017-12-13.

NYISO Operating Committee Meeting

December 14, 2017, 10:00 a.m.-4:00 p.m. (EST)

The above-referenced meeting will be via Web conference and teleconference.

The above-referenced meeting is open to stakeholders.

Further information may be found at: http://www.nyiso.com/public/committees/documents.jsp?com=oc&directory=2017-12-14.

NYISO Management Committee Meeting

December 21, 2017, 10:00 a.m.-4:00 p.m. (EST)

The above-referenced meeting will be via Web conference and teleconference.

The above-referenced meeting is open to stakeholders.

Further information may be found at: http://www.nyiso.com/public/committees/documents.jsp?com=mc&directory=2017-12-21.

The discussions at the meetings described above may address matters at issue in the following proceedings:

New York Independent System Operator, Inc., Docket No. ER13-102.

New York Independent System Operator, Inc., Docket No. ER15-2059.

New York Independent System Operator, Inc., Docket No. ER17-2327.

For more information, contact James Eason, Office of Energy Market Regulation, Federal Energy Regulatory Commission at (202) 502-8622 or James.Eason@ferc.gov.

Dated: November 28, 2017.
Kimberly D. Bose,
Secretary.

[FR Doc. 2017-26032 Filed 12-1-17; 8:45 am]

BILLING CODE 6717-01-P